DEPARTMENT OF COMMERCE

National Oceanic and Atmospheric Administration

RIN 0648-XG753

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Mackerel, Squid, and Butterfish Advisory Panel will hold a public meeting via webinar.

DATES: The meeting will be held on Friday February 22, 2019, from 10 a.m. to 12 p.m. See SUPPLEMENTARY INFORMATION for agenda details.

ADDRESSES: The meeting will be held via webinar, which can be accessed at: http://mafmc.adobeconnect.com/feb2019msbap/. Participants may also connect via telephone by calling 1-800-832-0736 and entering room number 5068871.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Mackerel, Squid, and Butterfish Advisory Panel will meet on Friday February 22, 2019 (see DATES and ADDRESSES). The purpose of this meeting is for the Advisory Panel to review public comments and staff recommendations and provide recommendations for preferred alternatives for the Chub Mackerel Amendment. The Council will consider the Advisory Panel recommendations when they take final action on this amendment. This amendment considers adding Atlantic chub mackerel (Scomber colias) to the Mackerel, Squid, and Butterfish Fishery Management Plan. The amendment includes alternatives regarding catch limits, accountability measures, and other conservation and management measures required for stocks “in the fishery.” Background documents can be found on the Council's website (www.mafmc.org).

Special Accommodations

These meetings are physically accessible to people with disabilities. Requests for sign language interpretation or other auxiliary aid should be directed to M. Jan Saunders, (302) 526-5251, at least 5 days prior to the meeting date.

Dated: February 1, 2019.
Jennifer M. Wallace,
Acting Director, Office of Sustainable Fisheries, National Marine Fisheries Service.

[FR Doc. 2019-01287 Filed 2-5-19; 8:45 am]

BILLING CODE 3510-22-P